DEPARTMENT OF HOMELAND SECURITY

Coast Guard

33 CFR Part 117

[Docket No. USCG-2008-0428]

Drawbridge Operation Regulation; Atlantic Intracoastal Waterway, Boca Raton, FL

AGENCY: Coast Guard, DHS.

ACTION: Notice of temporary deviation from regulations.

SUMMARY: The Commander, Seventh Coast Guard District, has issued a temporary deviation from the regulation governing the operation of the Spanish River Boulevard bridge across the Atlantic Intracoastal Waterway, mile 1044.9, at Boca Raton, FL. The deviation is necessary to perform rehabilitation work on the bridge. This deviation allows the bridge to operate with a five feet reduced vertical clearance, operate with single leaf openings, and/or operate with full double leaf opening pending a three hour advance notice.

DATES: This deviation is effective from 8 a.m., June 15, 2008 to 6 p.m., December 8, 2008.

ADDRESSES: Documents indicated in this preamble as being available in the docket are part of docket USCG-2008-0428 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander (dpb), Seventh Coast Guard District, 909 SE., 1st Avenue, Room 432, Miami, Florida 33131-3028 between 8 a.m. and 4:30 p.m., Monday through Friday, except Federal holidays.

FOR FURTHER INFORMATION CONTACT: If you have questions on this rule, call Mr. Barry Dragon, Bridge Branch, Seventh Coast Guard District, at 305-415-6743. If you have questions on viewing the docket, call Renee V. Wright, Program Manager, Docket Operations, telephone 202-366-9826.

SUPPLEMENTARY INFORMATION: This deviation was requested by Coastal Marine Construction representing Florida Department of Transportation, the bridge owner, in order to complete rehabilitation and painting of the bridge spans of the Spanish Boulevard Bridge, mile 1044.9, of the Atlantic Intracoastal Waterway, Boca Raton, FL. The bridge has a vertical clearance of 25 feet in the closed position and a horizontal clearance of 90 feet. The work will require single leaf operation on the hour and half-hour with a 3 hour advance notice for a double leaf opening in order to remove personnel and equipment from the leaf areas. In addition, the vertical clearance will be reduced by five feet due to the placement of containment equipment which is required to protect the environment. The normal operating schedule for the bridge is in 33 CFR 117.261(z-3), and requires the bridge to open on the hour and half-hour. This deviation period begins on June 15, 2008 and ends on December 8, 2008. The operating schedule during this deviation period will be single leaf on the hour and half-hour with a 3 hour advance notice for a full double leaf opening. Contact the bridge tender at 561-395-5417 to request a full opening. In the case of emergencies the bridge will open as soon as practicable.

In accordance with 33 CFR 117.35(e), the drawbridge must return to its regular operating schedule immediately at the end of the designated time period. This deviation from the operating regulations is authorized under 33 CFR 117.35.

Dated: May 29, 2008.
Robert S. Branham,
Rear Admiral, U.S. Coast Guard, Commander, Seventh Coast Guard District.

[FR Doc. E8-12804 Filed 6-5-08; 8:45 am]

BILLING CODE 4910-15-P